DEPARTMENT OF ENERGY

Federal Energy Regulatory Commission

[Docket No. ER01-1860-001, et al.]

Cobb Electric Membership Corp., et al.; Electric Rate and Corporate Filings

August 4, 2004.

The following filings have been made with the Commission. The filings are listed in ascending order within each docket classification.

1. Cobb Electric Membership Corp.

[Docket No. ER01-1860-001]

Take notice that on July 12, 2004, Cobb Electric Membership Corp. (Cobb) submitted for filing with the Federal Energy Regulatory Commission its triennial updated market analysis in accordance with Appendix A of the Commission's June 22, 2001, Letter Order, and the Commission's May 13, 2004, order generically granting Cobb and similarly-situated entities an extension of time to file triennial market-based rate reviews. Cobb also submitted certain revisions to its Original FERC Rate Schedule No. 1 to incorporate the Market Behavior Rules set forth in 105 FERC ¶ 61,218 (2003).

Comment Date: 5 p.m. eastern time on August 16, 2004.

2. AllEnergy Marketing Company, LLC

[Docket No. ER04-1037-000]

Take notice that on July 23, 2004, AllEnergy Marketing Company, LLC filed a Notice of Cancellation of its FERC Electric Tariff, Original Volume No. 1, effective September 24, 2004.

Comment Date: 5 p.m. eastern time on August 20, 2004.

Standard Paragraph

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. Such notices, motions, or protests must be filed on or before the comment date. Anyone filing a motion to intervene or protest must serve a copy of that document on the Applicant. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Magalie R. Salas,
Secretary.

[FR Doc. E4-1782 Filed 8-11-04; 8:45 am]

BILLING CODE 6717-01-P